DEPARTMENT OF JUSTICE

Notice of Lodging of Consent Decree Pursuant to the Clean Water Act and the Safe Drinking Water Act

In accordance with 28 CFR 50.7, 38 Fed. Reg. 19029, notice is hereby given that on December 8, 2000, a proposed consent decree in United States v. Puerto Rico Aqueduct and Sewer Authority, Civil Action No. 00-2554 (JAF), was lodged with the United States District Court for the District of Puerto Rico. The complaint in this action alleged that the Puerto Rico Aqueduct & Sewer Authority (“PRASA”) has been violating the Clean Water Act (“CWA”), 33 U.S.C. 1251, et seq., by discharging wastewater from 23 of its drinking water treatment plants in excess of the effluent limitations in the applicable National Pollutant Discharge Elimination System (“NPDES”) permits or without possessing such permits. The complaint also alleged that PRASA failed or is failing to provide filtration of the surface waters it uses to supply drinking water to 20 of its public water systems in violation of the Surface Water Treatment Rule (“SWTR”), 40 CFR 141.70, et seq., and the Safe Drinking Water Act (“SDWA”), 42 U.S.C. 300f, et seq. The complaint sought injunctive relief and civil penalties.

The Consent Decree requires PRASA to pay a total cash penalty of $550,000 to settle these violations of the CWA and the SDWA, as well as to implement two supplemental environmental projects (“SEPs”). The two SEPs involve the connection of two non-PRASA drinking water systems, which currently do not have filtered water, to one of PRASA's public water systems that receives filtered drinking water. The estimated cost of these two SEPs is $490,600.

With regard to the PRASA drinking water treatment plants violating the CWA, the Consent Decree requires PRASA to achieve complicance in accordance with schedules for individual plants which vary from two to four years in duration. As to the PRASA public water systems that have not achieved compliance with the SWTR, the Consent Decree requires PRASA to remedy its noncompliance by constructing filtration facilities, connecting public water systems to other PRASA public water systems that have filtration plants, or installing groundwater well systems in lieu of the use of unfiltered surface water supplies. The completion dates in the SDWA compliance schedules for individual public water systems are in 2000-2002.

The Department of Justice will receive comments relating to the proposed consent decree for a period of thirty (30) days from the date of this publication. Comments should be addressed to the Assistant Attorney General, Environment and Natural Resources Division, Department of Justice, P.O. Box 7611, Washington, DC 20044, and should refer to United States v. Puerto Rico Aqueduct and Sewer Authority, D.J. Ref. 90-5-1-1-06179, 90-5-1-1-06475.

The proposed consent decree may be examined at the office of the United States Attorney, Federal Office Building, Rm. 101, Carlos E. Chardon Avenue, Hato Rey, Puerto Rico 00918 and at the Region II office of the Environmental Protection Agency, 290 Broadway, New York, New York 10007. A copy of the proposed consent decree may also be obtained by mail from the Department of Justice Consent Decree Library, P.O. Box 7611, Washington, DC 20044. In requesting a copy, please enclose a check (there is a 25 cent per page reproduction cost) in the amount of $19.75 payable to the “Consent Decree Library.”

Bruce S. Gelber,
Chief, Section Environment & Natural Resources Division.

[FR Doc. 00-33055 Filed 12-27-00; 8:45 am]

BILLING CODE 4410-15-M